NUCLEAR REGULATORY COMMISSION

[Docket Nos. 50-247 and 50-286; NRC-2008-0672]

Entergy Nuclear Operations, Inc.; Indian Point Nuclear Generating Unit Nos. 2 and 3

AGENCY: Nuclear Regulatory Commission.

ACTION: Supplement to Final Supplement 38 to the Generic Environmental Impact Statement for License Renewal of Nuclear Plants; issuance.

SUMMARY: Notice is hereby given that the U.S. Nuclear Regulatory Commission (NRC) has published a supplement (Volume 4) to the final plant-specific supplement 38 to the “Generic Environmental Impact Statement for License Renewal of Nuclear Plants (GEIS),” NUREG-1437, regarding the renewal of operating licenses DPR-26 and DPR-64 for an additional 20 years of operation for Indian Point Nuclear Generating Unit Nos. 2 and 3 (IP2 and IP3). This supplement revises specific sections of the final plant-specific Supplement 38 to the GEIS, as indicated in the supplement. The IP2 and IP3 site is located approximately 24 miles north of New York, NY. Possible alternatives to the proposed action (license renewal) include no action and reasonable alternative.

ADDRESSES: Please refer to Docket ID NRC-2008-0672 when contacting the NRC about the availability of information regarding this document. You may access information related to this document using the following methods:

• Federal Rulemaking Web site: Go to http://www.regulations.gov and search for Docket ID NRC-2008-0672. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Additional information regarding accessing materials related to this action is under the Document Availability heading in the SUPPLEMENTARY INFORMATION section of this document.

• NRC's PDR: You may examine and purchase copies of public documents at the NRC's PDR, Room O1-F21, One White Flint North, 11555 Rockville Pike, Rockville, Maryland 20852.

FOR FURTHER INFORMATION CONTACT: For information about the final supplemental environmental impact statement (FSEIS), this supplement to the FSEIS, or the environmental review process, please contact Lois James, telephone: 301-415-3306; email: Lois.James@nrc.gov; or address: Projects Branch 2, Division of License Renewal, Office of Nuclear Reactor Regulation, U.S. Nuclear Regulatory Commission, Washington, DC 20555-0001.

SUPPLEMENTARY INFORMATION:

Discussion

The NRC received an application, dated April 23, 2007, from Entergy Nuclear Operations, Inc. (Entergy), filed pursuant to Section 103 of the Atomic Energy Act of 1954, as amended, and Title 10 of the Code of Federal Regulations, Part 54 (10 CFR Part 54), to renew the operating license for IP2 and IP3. Renewal of the license would authorize the applicant to operate the facilities for an additional 20-year period beyond the period specified in the current operating licenses. The current operating license for IP2 expires on September 28, 2013, and the current operating license for IP3 expires on December 12, 2015.

This supplement (Volume 4) to the FSEIS is being issued as part of the NRC's process to decide whether to issue a renewed license to IP2 and IP3, pursuant to 10 CFR Part 54. This supplement to the FSEIS was prepared in compliance with the National Environmental Policy Act of 1969, as amended (NEPA), and the NRC's regulations for implementing NEPA in 10 CFR Part 51.

In December 2010, the NRC published its FSEIS related to the license renewal of IP2 and IP3, NUREG-1437, Supplement 38, Volumes 1-3. After publication, the staff identified new information that necessitated changes to its assessments in the FSEIS. In addition to supplementing the FSEIS to address the new information, the NRC is also documenting the completion of the consultation process under Section 7 of the Endangered Species Act of 1973, as amended (ESA), with the National Marine Fisheries Service (NMFS) regarding the shortnose sturgeon (Acipenser brevirostrum) and the Atlantic sturgeon (Acipenser oxyrinchus oxyrinchus) population in the vicinity of IP and IP3. This supplement to the FSEIS does not alter the conclusion stated in Section 9.3 of the December 2010 FSEIS:

Based on (1) the analysis and findings in the GEIS, (2) the ER and other information submitted by Entergy, (3) consultation with Federal, State, Tribal, and local agencies, (4) the NRC staff's consideration of public scoping comments received, and comments on the draft SEIS, and (5) the NRC staff's independent review, the recommendation of the NRC staff is that the Commission determine that the adverse environmental impacts of license renewal for IP2 and IP3 are not so great that preserving the option of license renewal for energy planning decision makers would be unreasonable.

In preparing this supplement (Volume 4) to the final SEIS, the NRC staff also reviewed, considered, evaluated, and addressed the public comments received during the comment process on the draft supplement to the final SEIS.

Document Availability

Documents related to this notice are available on the NRC's plant application for license renewal Web site at http://www.nrc.gov/reactors/operating/licensing/renewal/applications/columbia.html. The FSEIS for the IP2 and IP3 projects may also be accessed on the internet at http://www.nrc.gov/reading-rm/doc-collections/nuregs/staff/sr1437/ by selecting “Supplement-38.”

The IP2s and IP3s license application, the IP2s and IP3s Environmental Report, and Volumes 1, 2, 3, and 4 of the NRC's FSEIS are available in ADAMS under the following Accession Numbers:

• IP2s and IP3's license application—ML071210507

• IP2s and IP3s Environmental Report—ML071210530

• Volumes of final SEIS

Volume 1—ML103350405

Volume 2—ML103350438, ML103360209, ML103360212,

Volume 3—ML103350442

Volume 4—ML13162A616

A copy of this supplement to the FSEIS and the FSEIS will be available at the the White Plains Public Library (White Plains, NY), Hendrick Hudson Free Library (Montrose, NY), and the Field Library (Peekskill, NY).

Dated at Rockville, Maryland, this 20th day of June, 2012.
For the Nuclear Regulatory Commission.
Anneliese Simmons,
Acting Chief, Projects Branch 2, Division of License Renewal, Office of Nuclear Reactor Regulation.

[FR Doc. 2013-15527 Filed 6-27-13; 8:45 am]

BILLING CODE 7590-01-P